DEPARTMENT OF THE INTERIOR

National Park Service

[2253-665]

Notice of Intent To Repatriate Cultural Items: U.S. Department of Defense, Army Corps of Engineers, Walla Walla District, Walla Walla, WA, and the University of Oregon Museum of Natural and Cultural History, Eugene, OR

AGENCY: National Park Service, Interior.

ACTION: Notice.

SUMMARY: The United States Department of Defense, Army Corps of Engineers, Walla Walla District, in consultation with the appropriate Indian tribes, has determined that the items in this notice meet the definition of unassociated funerary objects and repatriation to the Indian tribes stated below may occur if no additional claimants come forward. Representatives of any Indian tribe that believes itself to be culturally affiliated with the cultural items may contact the U.S. Department of Defense, Army Corps of Engineers, Walla Walla District.

DATES: Representatives of any Indian tribe that believes it has a cultural affiliation with the cultural items should contact U.S. Department of Defense, Army Corps of Engineers, Walla Walla District at the address below by March 28, 2012.

ADDRESSES: LTC David Caldwell, U.S. Department of Defense, Army Corps of Engineers, Walla Walla District, 201 North Third Ave., Walla Walla, WA 99362, telephone (509) 527-7700.

SUPPLEMENTARY INFORMATION: Notice is here given in accordance with the Native American Graves Protection and Repatriation Act (NAGPRA), 25 U.S.C. 3005, of the intent to repatriate cultural items under the control of the U.S. Department of Defense, Army Corps of Engineers, Walla Walla District (Corps), Walla Walla, WA, and in the physical custody of the University of Oregon Museum of Natural and Cultural History (UO-MNCH), Eugene, OR, that meet the definition of unassociated funerary objects under 25 U.S.C. 3001.

This notice is published as part of the National Park Service's administrative responsibilities under NAGPRA, 25 U.S.C. 3003(d)(3). The determinations in this notice are the sole responsibility of the museum, institution or Federal agency that has control of the cultural items. The National Park Service is not responsible for the determinations in this notice.

History and Description of the Cultural Items

The unassociated funerary objects included in this notice were all removed from sites located within the McNary Lock and Dam Project on the Columbia River. The McNary Lock and Dam Project is managed by the Corps, who initiated land acquisition processes for the Project in 1947.

In 1948, the Smithsonian Institution's River Basin Survey Project (SRBS) removed human remains and funerary objects from site 45BN3, a pre-contact protohistoric village site located on Berrian's Island, in the Columbia River, in Benton County, WA. The recovered collections were transferred to three separate repositories: The Smithsonian Institution; the University of Washington (UW) Burke Museum, Seattle, WA; and UO-MNCH, Eugene, OR. The portion of the collections in the physical custody of UO-MNCH was re-inventoried in 1996, under a contract with the Corps. Unassociated funerary objects in the collection were recovered from Burials 4-5, 7-9, 11-15, 19, 22, 24-26, 32, 34, 36-37, 39, 41, 43, 45-46, 48-49, and 51-54. The 189 unassociated funerary objects are 1 abalone pendant, 3 antler digging stick handles, 1 antler wedge, 1 antler wedge fragment, 2 arrow-shaft smoothers, 1 arrow-shaft smoother fragment, 2 arrow-shaft straighteners, 2 bear canines (badly decayed), 1 bird bone fragment, 1 bird effigy charm stone, 3 bivalves, 3 perforated bivalves, 1 broken chalcedony blade, 7 blue trade beads, 1 bone comb, 2 bone fragments, 1 bone pin, 1 brass pendant, 2 carved bone fragments, 1 celt fragment, 1 serpentine celt (unfinished), 1 chacedony drill, 2 choppers, 1 copper fragment, 1 copper pendant, 1 copper pendant fragment, 8 copper tube beads, 4 incised Dentalia shells, 3 Dentalia shells, 3 lots of Dentalia shells/fragments, 1 broken drill, 1 petrified wood drill (in 2 pieces), 2 drilled bear claws, 1 eagle bone whistle, 2 flakes, 1 flesher, 9 glass beads, 1 Glycymeris fragment, 1 graver or drill, 1 hook-shaped charmstone, 1 iron tinkler, 1 iron blade, 1 knife, 2 knife fragments, 1 crushed metal button, 1 shanked and drilled metal button, 2 Olivella shells, 1 Olivella shell fragment, 1 lot of Olivella shell beads, 6 lots of Olivella shells, 1 oval blade, 2 pendants, 2 perforated shells, 1 pestle, 1 broken pestle (3 pieces, repaired), 1 basalt pestle, 1 petrified wood knife, 1 pink chalcedony knife, 6 projectile points, 1 point or blade, 1 point or drill, 1 broken obsidian projectile point, 1 chalcedony point, 1 petrified wood point, 1 broken petrified wood point, 1 while flint point, 1 scoria file or whetstone, 10 scrapers, 1 brown agate scraper, 2 chalcedony scrapers, 1 flint scraper, 13 shells, 2 shell beads, 2 lots of shell beads, 2 shell pendants, 1 silver pendant, 2 carved slate effigies, 2 carved slate effigies with ochre on surface, 1 incised slate effigy, 1 smooth burned stone, 7 smooth stones, 1 soapstone pipe bowl fragment, 2 soil samples, 1 steatite pipe, 1 steatite spoon, 1 stone mallet/maul, 1 unidentified stone object, 1 serpentine stone pendant, 3 strings of juniper beads, 1 string of Olivella shell and wooden beads, 1 drilled thimble, 1 tubular stone pipe, 1 lot of wooden beads, 1 worked bone or tube bead (burned), 1 mammal incisor, 1 worked deer incisor, and 1 worked tooth or antler wedge (badly decayed).

In 1947, the SRBS removed human remains and funerary objects from previously disturbed burials at 45BN45 (aka 45BN186), located on an island in the Columbia River, in Benton County, WA. The 1947 SRBS collection was transported to Fort Vancouver National Monument in Vancouver, WA. In 1960, a portion of the collection was transferred to and accessioned by UO-MNCH (OSMA accession #102). The unassociated funerary objects were described as originating from the backdirt piles of one or more disturbed burials identified at the site. The ten unassociated funerary objects are 1 copper pendant, 3 metal fragments, and 6 glass beads. The site consisted of a village and burial site dating to the late pre-contact protohistoric period or earlier.

In 1947, SRBS removed funerary objects from burials at 45FR28, on Borgan's Island, in Benton County, WA. At the time, 45FR28 was reported to contain extensively disturbed burials marked by cedar posts and located in the sand dunes on the southern end of the island. It is unclear whether or not human remains were collected during this survey. Materials from the 1947 SRBS investigations were transported to Fort Vancouver National Monument, in Vancouver, WA. In 1960, the collection was transferred to UO-MCNH (OSMA accession #202). Funerary objects were reportedly removed from Burials 1 and 2. The 14 unassociated funerary objects are 1 lot of clamshell disk beads, 1 lot of plant seed beads, 2 lots of Olivella shell beads, 1 lot of dentalium shells, 1 individual dentalium, 4 copper fragments, 1 projectile point fragment, 1 lot of hair, 1 lot of hair and fiber, and 1 iron spike. The site consisted of burials of the proto-historic to historic period date. The burial methods and artifacts are consistent with Plateau funerary practices during that era.

Prior to 1950 or 1951, funerary objects were recovered on an island north of Hover, Benton County, WA, in direct association with a burial. The “Island North of Hover” funerary objects were donated by a private party to the UO-MNCH in 1950 or 1951. No human remains were donated. The collection was re-inventoried by UO-MNCH in 1996, under a contract with the Corps. The 57 unassociated funerary objects are 23 decorated bird bones, 1 decorated animal bone, 4 grooved bones, 1 slotted bone, 2 projectile points, 1 pipe, 5 shell beads, 2 stone beads, 4 shell pendants, 2 jasper pendants, 3 stone pendants, 1 graphite pendant, 1 needle or awl, 5 elk incisors, 1 badger claw, and 1 carnivore claw.

Determinations Made by the U.S. Department of Defense, Army Corps of Engineers, Walla Walla District

Officials of the U.S. Department of Defense, Army Corps of Engineers, Walla Walla District, have determined that:

• Five lines of evidence—geographical, ethnographic, archeological, anthropological and historical—support a cultural affiliation between the Confederated Tribes and Bands of the Yakama Nation, Washington; Confederated Tribes of the Colville Reservation, Washington; Confederated Tribes of the Umatilla Indian Reservation, Oregon; Confederated Tribes of Warm Springs Reservation, Oregon; and the Nez Perce Tribe, Idaho (hereinafter referred to as “The Tribes”) and the unassociated funerary objects identified above. Additionally, a cultural relationship is determined to exist between the sites and collections and the Wanapum Band, a non-Federally recognized Indian Group (hereinafter referred to as “The Indian Group”).

• Pursuant to 25 U.S.C. 3001(3)(B), the 270 cultural items described above are reasonably believed to have been placed with or near individual human remains at the time of death or later as part of the death rite or ceremony and are believed, by a preponderance of the evidence, to have been removed from the specific burial sites of Native American individuals.

• Pursuant to 25 U.S.C. 3001(2), there is a relationship of shared group identity that can be reasonably traced between the unassociated funerary objects, The Tribes and The Indian Group. Information provided by The Tribes and The Indian Group shows that they are descended from the Native people who occupied these sites, and that the individuals buried along the Snake and mid-Columbia Rivers are their ancestors. The aforementioned tribes are all part of the more broadly defined Plateau cultural community having shared past and present traditional lifeways that binds them to common ancestors.

Additional Requestors and Disposition

Representatives of any other Indian tribe that believes itself to be culturally affiliated with the unassociated funerary objects should contact LTC David Caldwell, U.S. Department of Defense, Army Corps of Engineers, Walla Walla District, 201 North Third Ave., Walla Walla, WA 99362, telephone (509) 527-7700, before March 28, 2012. Repatriation of the unassociated funerary objects to The Tribes and (if joined) The Indian Group may proceed after that date if no additional claimants come forward.

The U.S. Department of Defense, Army Corps of Engineers, Walla Walla District, is responsible for notifying The Tribes and The Indian Group that this notice has been published.

Dated: February 22, 2012.
Sherry Hutt,
Manager, National NAGPRA Program.

[FR Doc. 2012-4507 Filed 2-24-12; 8:45 am]

BILLING CODE 4312-50-P